DEPARTMENT OF TRANSPORTATION

Federal Highway Administration

Rescinding the Notice of Intent for an Environmental Impact Statement; Gadsden, Etowah County, Alabama

AGENCY: Federal Highway Administration (FHWA), DOT.

ACTION: Rescind Notice of Intent.

SUMMARY: The FHWA is issuing this notice to advise the public that the 2004 Notice of Intent (NOI) published in the Federal Register for Federal-aid project HPP-1602(539), the I-759 Extension, in Etowah County, Alabama is being rescinded. An environmental impact statement (EIS) will not be prepared for this project.

FOR FURTHER INFORMATION CONTACT: Mr. Mark D. Bartlett, Division Administrator, Federal Highway Administration, 9500 Wynlakes Place, Montgomery, Alabama 36117; Email: mark.bartlett@dot.gov; Telephone: (334) 274-6350.

SUPPLEMENTARY INFORMATION: The FHWA, in cooperation with the Alabama Department of Transportation, is rescinding the NOI to prepare an EIS for Federal-aid project HPP-1602(539). The proposed project was to construct a limited access roadway from the eastern terminus of Interstate Highway 759 (I-759) near George Wallace Drive to a proposed interchange with U.S. Highway 431 and U.S. Highway 278 in the city of Gadsden. The proposed project would have been a multi-lane roadway on a new location.

The NOI for the project was published in the Federal Register on October 4, 2004. The FHWA has determined, in conjunction with ALDOT, the NOI for the project shall be rescinded due to the numerous impacts under Section 4(f) to historic resources identified during the project's environmental studies and opposition to Section 4(f) avoidance alternatives.

Any future Federal-aid actions within this corridor will comply with environmental review requirements of the National Environmental Policy Act (NEPA, 42 U.S.C. 4321, et seq.), FHWA environmental regulations (23 CFR 771) and related authorities, as appropriate.

Authority: 23 U.S.C. 315; 49 CFR 1.48.

(Catalog of Federal Domestic Assistance Program Number 20.205, Highway Planning and Construction. The regulations implementing Executive Order 12372 regarding intergovernmental consultation on Federal programs and activities apply to this program.)

Issued on: August 20, 2018.
Mark Bartlett,
Division Administrator, Federal Highway Administration, Montgomery, Alabama.

[FR Doc. 2018-18669 Filed 8-28-18; 8:45 am]

BILLING CODE 4910-22-P